DEPARTMENT OF EDUCATION

Migrant Education Program Consortium Incentive Grant Program

AGENCY: Office of Elementary and Secondary Education, Department of Education.

ACTION: Notice of final priority.

SUMMARY: The Assistant Secretary for Elementary and Secondary Education announces the addition of an eighth absolute priority to the seven current absolute priorities for the Migrant Education Program (MEP) Consortium Incentive Grant (CIG) program established in the notice of final requirements published in the Federal Register on March 3, 2004 (69 FR 10110) (March 2004 notice). The Assistant Secretary may use this proposed absolute priority and the absolute priorities established in the March 2004 notice for competitions in fiscal year (FY) 2008 and later years. We take this action to give State educational agencies (SEAs) the option to propose consortium arrangements that address the educational attainment needs of out-of-school migratory youth whose education is interrupted.

DATES: Effective Date: This priority is effective April 11, 2008.

FOR FURTHER INFORMATION CONTACT: Alejandra Velez-Paschke, U.S. Department of Education, 400 Maryland Avenue, SW., room 3E249, LBJ, Washington, DC 20202-6135. Telephone: (202) 260-2834 or via Internet: alejandra.velez@ed.gov.

If you use a telecommunications device for the deaf (TDD), you may call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: Background: The MEP CIG program is authorized under section 1308(d) of the Elementary and Secondary Education Act of 1965, as amended by the No Child Left Behind Act of 2001 (ESEA). The CIG program provides, on a competitive basis, incentive grants to the SEAs receiving MEP Basic Formula Grant awards that participate in high-quality consortium arrangements with another State or appropriate entity. The purpose of these grants is to improve the delivery of services to migratory children whose education is interrupted.

In the March 2004 notice, the Department established seven absolute priorities for the CIG that promote key national objectives. SEAs that have sought funding under the CIG have had to propose a consortium that addressed one or more of these absolute priorities. These seven absolute priorities are—

(1) Services designed to improve the proper and timely identification and recruitment of eligible migratory children whose education is interrupted;

(2) Services designed (based on a review of scientifically based research) to improve the school readiness of pre-school-aged migratory children whose education is interrupted;

(3) Services designed (based on a review of scientifically based research) to improve the reading proficiency of migratory children whose education is interrupted;

(4) Services designed (based on a review of scientifically based research) to improve the mathematics proficiency of migratory children whose education is interrupted;

(5) Services designed (based on a review of scientifically based research) to decrease the dropout rate of migratory students whose education is interrupted and improve their high school completion rate;

(6) Services designed (based on a review of scientifically based research) to strengthen the involvement of migratory parents in the education of migratory students whose education is interrupted; and

(7) Services designed (based on a review of scientifically based research) to expand access to innovative educational technologies intended to increase the academic achievement of migratory students whose education is interrupted.

We published a notice of proposed priority for this program in the Federal Register on November 20, 2007 (72 FR 65316). The notice of proposed priority included a discussion of the significant issues surrounding the educational attainment of out-of-school migratory youth. The notice of proposed priority, along with the notice of final requirements published in the Federal Register on March 3, 2004 (69 FR 10110), would have allowed SEAs, based on the needs of migratory children in their respective consortium States, to seek CIG program funding for consortium activities that addressed any one or more of the eight absolute priorities.

There are no differences between the notice of proposed priority and this notice of final priority.

Analysis of Comments and Changes

In response to our invitation in the notice of proposed priority, two parties submitted comments on the proposed priority. An analysis of the comments and of any changes in the priority since publication of the notice of proposed priority follows.

Generally, we do not address technical and other minor changes—and suggested changes the law does not authorize us to make under the applicable statutory authority. We also do not address comments pertaining to issues that were not within the scope of the notice of proposed priority.

Comment: One commenter expressed concern that the inclusion of this absolute priority would result in taxpayer dollars being used to provide services to individuals who do not have the necessary legal documentation to reside or work in the United States.

Discussion: The Secretary appreciates the commenter's concern. However, documentation of legal status is not a requirement of the MEP, the CIG Program, or any other Federal elementary or secondary education program. In order to be eligible, and therefore to receive services, under Title I, Part C of the ESEA (under which the MEP CIG Program is authorized), a child or youth must only meet the definition of “migratory child” as outlined in the statute; proof of legal residency or legal work status is not required.

Changes: None.

Comments: Another commenter expressed general agreement with the need to serve out-of-school migratory youth, but asserted that the public school system is not the appropriate entity for administering CIG Program services for this population. The commenter maintained that it would be too difficult for the public school system to serve those migratory children both enrolled and not enrolled in school. The commenter suggested junior colleges or private entities as more adequate administrators of the program.

Discussion: The Secretary does not agree that public school systems should be prohibited from operating CIG Program services under the eighth priority. SEAs, not local school districts, administer both the MEP and the CIG Program. Accordingly, SEAs have the statutory authority to operate these CIG Programs directly or through local operating agencies, which may include school districts, institutions of higher education, or any other public or nonprofit private agency with which the SEA makes an arrangement. The Secretary does not want to limit, in this eighth absolute priority, the authority of SEAs to select those entities they want to operate CIG Program services designed to improve the educational attainment of out-of-school migratory youth. Rather, the Secretary believes that SEAs will be able to choose the entities that they believe will be most effective in providing these CIG Program services. Thus, we decline to make the change recommended by the commenter.

Changes: None.

Note: This notice does not solicit applications. In any year in which we choose to use this or any of the other seven absolute priorities, we invite applications through a notice in the Federal Register. Under an absolute priority we consider only applications that meet the priority (34 CFR 75.105(c)(3)).

Priority: Services designed (based on a review of scientifically based research) to improve the educational attainment of out-of-school migratory youth whose education is interrupted.

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

We have also determined that this regulatory action does not unduly interfere with State, local, and tribal governments in the exercise of their governmental functions.

We fully discussed the costs and benefits in the notice of proposed priority.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.144 Migrant Education Coordination Program)

Program Authority: 20 U.S.C. 6398(d).

Dated: March 7, 2008.
Kerri L. Briggs,
Assistant Secretary for Elementary and Secondary Education.

[FR Doc. E8-4960 Filed 3-11-08; 8:45 am]

BILLING CODE 4000-01-P